COMMISSION ON CIVIL RIGHTS

Agenda and Notice of Public Meeting of the Delaware Advisory Committee; Correction

AGENCY: Commission on Civil Rights.

ACTION: Notice; revision.

SUMMARY: The Commission on Civil Rights published a notice in the Federal Register of September 15, 2016, concerning a meeting of the Delaware Advisory Committee. The meeting time for the January 18, 2017 is changed.

FOR FURTHER INFORMATION CONTACT: Ivy Davis, (202) 376-7533.

Revision

In the Federal Register of Delaware, in FR Doc. 2016-22196, on page 63468, revise the first paragraph to read:

Notice is hereby given, pursuant to the provisions of the rules and regulations of the U.S. Commission on Civil Rights (Commission), and the Federal Advisory Committee Act (FACA), that the time of the January 18, 2017 planning meeting of the Delaware State Advisory Committee to the Commission is changed to 10:00 a.m. EST.

Dated: January 10, 2017.
David Mussatt,
Supervisory Chief, Regional Programs Coordination Unit.

[FR Doc. 2017-00768 Filed 1-13-17; 8:45 am]

BILLING CODE P